DEPARTMENT OF COMMERCE

National Telecommunications and Information Administration

[Docket No. 010222048-2243-05]

The Housing Foreclosure, Repossession, and Default Notices Exception to the Electronic Signatures in Global and National Commerce Act

Correction

In notice document 02-29025 beginning on page 69201 in the issue of Friday, November 15, 2002, make the following correction:

On page 69201, in the third column, under the DATES heading, in the third and fourth lines, “[sixty (60) days after publication in the Federal Register]” should read, “January 14, 2003”.

[FR Doc. C2-29025 Filed 11-20-02; 8:45 am]

BILLING CODE 1505-01-D

FEDERAL TRADE COMMISSION

Agency Information Collection Activities; Submission for OMB Review; Comment Request

Correction

In notice document 02-28160 beginning on page 67625 in the issue of Wednesday, November 6, 2002, make the following corrections:

1. On page 27625, in the second column, under heading 1., in the third paragraph, in the second line, “manufactures” should read “manufacturers”.

2. On the same page, in the same column, under the same heading, in the same paragraph, in the third line, “imports” should read “importers”.

3. On page 67626, in the first table, in the column titled “Burden hours”, in the second entry, “8,500” should read “8,550”.

4. On the same page, in the first column, footnote 2 should appear directly below the first table.

5. On the same page, in the first column, in the first paragraph, in the first line, “Staff ²” should read “Staff”.

6. On page 67628, in the first column, footnote 8 should appear directly below the table.

7. On the same page, in the same column, in the first paragraph, in the first line, “Staff ⁸” should read “Staff”.

[FR Doc. C2-28160 Filed 11-20-02; 8:45 am]

BILLING CODE 1505-01-D

DEPARTMENT OF TRANSPORTATION

Federal Aviation Administration

14 CFR Part 39

[Docket No. 2002-NE-12-AD]

RIN 2120-AA64

Airworthiness Directives; Rolls-Royce plc Model RB211 Turbofan Engines

Correction

In proposed rule document 02-28954 beginning on page 69160 in the issue of Friday, November 15, 2002, make the following correction:

On page 69160, in the second column, in the DATES section, in the second line, “January 14, 2002” should read, “January 14, 2003”.

[FR Doc. C2-28954 Filed 11-20-02; 8:45 am]

BILLING CODE 1505-01-D